DEPARTMENT OF TRANSPORTATION

Surface Transportation Board

[STB Finance Docket No. 34705]

Soo Line Railroad Company D/B/A Canadian Pacific Railway—Temporary Trackage Rights Exemption—BNSF Railway Company

BNSF Railway Company (BNSF) has agreed to grant temporary overhead trackage rights to Soo Line Railroad Company d/b/a Canadian Pacific Railway (CPR) over BNSF's rail line between Ardoch, ND, and Erskine, MN, as follows: (1) From Ardoch at BNSF milepost 24.5 to Grand Forks, ND, at BNSF milepost 0.0, (2) from Grand Forks at BNSF milepost 109.9 to Crookston Junction, MN, at BNSF milepost 80.9, and (3) from Crookston Junction at BNSF milepost 0.0 to Erskine at BNSF milepost 31.5, a total distance of approximately 84.6 miles.¹

The transaction was scheduled to be consummated on June 1, 2005, and the temporary trackage rights will expire on or about July 31, 2005. The purpose of the temporary trackage rights is to permit CPR to bridge its train service while the main lines of its affiliated shortline railroad are out of service due to certain programmed track, roadbed and structural maintenance.

¹ By amendment filed on June 2, 2005, CPR acknowledges that a .4-mile difference exists between the total mileage and the aggregate of the distances between the mileposts, but attributes that difference to inexact measurements between the mileposts.

As a condition to this exemption, any employees affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employees affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34705, must be filed with the Surface Transportation Board, 1925 K Street, NW., Washington, DC 20423-0001. In addition, a copy of each pleading must be served on Thanh G. Bui, 150 South Fifth Street, Suite 2300, Minneapolis, MN 55402.

Board decisions and notices are available on our Web site at http://www.stb.dot.gov.

Decided: June 6, 2005.
By the Board, David M. Konschnik, Director, Office of Proceedings.
Vernon A. Williams,
Secretary.

[FR Doc. 05-11497 Filed 6-9-05; 8:45 am]

BILLING CODE 4915-01-P